DEPARTMENT OF ENERGY

10 CFR Parts 433 and 435

[EERE-2010-BT-STD-0031]

RIN 1904-AB96

Clean Energy for New Federal Buildings and Major Renovations of Federal Buildings; Stay

AGENCY: Federal Energy Management Program, Department of Energy.

ACTION: Final rule; stay.

SUMMARY: The Department of Energy (DOE) is reviewing its recent guidance related to the implementation of newly adopted provisions regarding Clean Energy for New Federal Buildings and Major Renovations of Federal Buildings (CER). While DOE reviews the CER implementation guidance, DOE is staying the compliance date for the newly adopted provisions in the Code of Federal Regulations (CFR).

DATES: Effective May 5, 2025, the May 1, 2025, compliance date for 10 CFR part 433, subpart B, and 10 CFR part 435, subpart B, is stayed until May 1, 2026.

ADDRESSES: The docket for this rulemaking, which includes Federal Register notices, public meeting attendee lists and transcripts, comments, and other supporting documents/materials, is available for review at www.regulations.gov. All documents in the docket are listed in the www.regulations.gov index.

The docket web page can be found at www.regulations.gov/docket/EERE-2010-BT-STD-0031. The docket web page contains instructions on how to access all documents, including public comments, in the docket.

FOR FURTHER INFORMATION CONTACT: Mr. Rick Mears, U.S. Department of Energy, Office of the Under Secretary for Infrastructure, Federal Energy Management Program, FEMP-1, 1000 Independence Avenue SW, Washington, DC 20585-0121. Phone: 240-278-5857. Email: cer-information@hq.doe.gov.

SUPPLEMENTARY INFORMATION: On May 1, 2024, DOE issued regulations that require certain new Federal buildings and Federal buildings undergoing major renovations to be designed to reduce their fossil fuel-generated energy consumption and provides a process for Federal agencies to petition for a downward adjustment from these requirements if applicable.¹ The final rule became effective on July 15, 2024, and applied the energy performance standards to certain newly constructed or majorly renovated Federal buildings for which design for construction begins on or after May 1, 2025. 89 FR 35384. On January 17, 2025, DOE discussed topics of interest within the final rule and provided additional information such as examples to demonstrate key points of compliance or non-compliance in Clean Energy Rule Implementation Guidance.² The guidance document was drafted with input and feedback from policymakers and Federal project developers and design teams. DOE also published a template document for Federal agencies to use when preparing petitions for downward adjustment.

¹ 89 FR 35384, Clean Energy for New Federal Buildings and Major Renovations of Federal Buildings, Final Rule (May 1, 2024).

² Available at https://www.energy.gov/sites/default/files/2025-03/clean-energy-rule_implementation-guidance_jan2025.pdf.

Shortly after DOE published the implementation guidance document and the petition template, President Trump announced new energy policies, specifically those relating to energy security and reliability.³ DOE is currently reviewing the recent implementation guidance and the template for petitions for downward adjustments to ensure that they are consistent with the policies of the current Administration. To avoid regulatory burdens that would result if Federal agencies adhered to these guidance documents, DOE will not process petitions for downward adjustment during its review of the implementation guidance documents. Accordingly, DOE stays the compliance date of the recent final rule that requires certain newly constructed or majorly renovated Federal buildings to meet energy performance standards and that outlines the process for Federal agencies to petition for a downward adjustment from those standards. Specifically, DOE stays the May 1, 2025, compliance date in subpart B of 10 CFR part 433 and subpart B of 10 CFR part 435 until May 1, 2026. Because the compliance date for these provisions is stayed, Federal agencies are not required to comply with these applicable energy performance standards during this time.

³ See e.g., Executive Order 14154 of January 20, 2025, Unleashing American Energy, 90 FR 8353 (Jan. 29, 2025); Executive Order 14156 of January 20, 2025, Declaring a National Energy Emergency, 90 FR 8433 (Jan. 29, 2025); Executive Order 14262 of April 8, 2025, Strengthening the Reliability and Security of the United States Electric Grid, 90 FR 15521 (April 14, 2025).

Signing Authority

This document of the Department of Energy was signed on April 29, 2025, by Mary Sotos, the Director of the Federal Energy Management Program, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 30, 2025.
Jennifer Hartzell,
Alternate Federal Register Liaison Officer, U.S. Department of Energy.

[FR Doc. 2025-07743 Filed 5-2-25; 8:45 am]

BILLING CODE 6450-01-P